DEPARTMENT OF DEFENSE

Department of the Navy

Notice of Availability of Government-Owned Inventions; Available for Licensing

AGENCY: Department of the Navy, DoD.

ACTION: Notice.

SUMMARY: The inventions listed below are assigned to the United States Government as represented by the Secretary of the Navy. U.S. Patent No. 6,965,509: Poly(3,4-alkylenedioxythiophene)-based capacitors using ionic liquids as supporting electrolytes, Navy Case No. 83733//U.S. Patent No. 7,578,859: Poly(3,4-alkylenedioxythiophene)-based capacitors using ionic liquids as supporting electrolytes, Navy Case No. 97448.

ADDRESSES: Requests for copies of the inventions cited should be directed to Naval Air Warfare Center Weapons Division, Code 4L4000D, 1900 N. Knox Road Stop 6312, China Lake, CA 93555-6106 and must include the Navy Case number.

FOR FURTHER INFORMATION CONTACT: Mr. Michael D. Seltzer, PhD, Head, Technology Transfer Office, Naval Air Warfare Center Weapons Division, Code 498400D, 1900 N. Knox Road Stop 6312, China Lake, CA 93555-6106, telephone: 760-939-1074, fax: 760-939-1210, E-mail: michael.seltzer@navy.mil.

Authority: 35 U.S.C. 207, 37 CFR part 404.7.

Dated: August 2, 2010.
D.J. Werner,
Lieutenant Commander, Judge Advocate Generals Corps, U.S. Navy, Federal Register Liaison Officer.

[FR Doc. 2010-19395 Filed 8-5-10; 8:45 am]

BILLING CODE 3810-FF-P